DEPARTMENT OF HOUSING AND URBAN DEVELOPMENT

[Docket No. FR-5415-FA-35]

Announcement of Funding Awards for the Rural Innovation Fund Program for Fiscal Year 2010

AGENCY: Office of the Assistant Secretary for Community Planning and Development, HUD.

ACTION: Announcement of funding awards.

SUMMARY: In accordance with section 102(a)(4)(C) of the Department of Housing and Urban Development Reform Act of 1989, this announcement notifies the public of funding decisions made by the Department in a competition for funding under the Notice of Funding Availability (NOFA) for the Fiscal Year (FY) 2010 Rural Housing and Economic Development Program. This announcement contains the names of the awardees and the amounts of the awards made available by HUD.

FOR FURTHER INFORMATION CONTACT: Valerie Piper, Deputy Assistant Secretary for Economic Development, Office of Community Planning and Development, Department of Housing and Urban Development, 451 Seventh Street SW., Room 7136, Washington, DC 20410-7000; telephone number (202) 402-4091 (this is not a toll free number). Hearing- and- speech impaired persons may access this number via TTY by calling the Federal Relay Service toll-free at 1-(800) 877-8339. For general information on this and other HUD programs, call Community Connections at 1-(800) 998-9999 or visit the HUD Web site at http://www.hud.gov.

SUPPLEMENTARY INFORMATION: The Rural Innovation Fund program was authorized by the Consolidated Appropriations Act, 2010, Public Law 111-117. The Rural Innovation Fund NOFA was posted on Grants.gov on December 22, 2010, and announced in the Federal Register on January 4, 2011 (76 FR 375). Applications were rated and selected for funding on the basis of selection criteria contained in that NOFA.

The Catalog of Federal Domestic Assistance (CFDA) number for Rural Innovation Fund program is 14.263. The purpose of the Rural Innovation Fund is to provide support for highly targeted and innovative grants dedicated to addressing the problems of concentrated rural housing distress and community poverty for projects that demonstrate a great likelihood of substantial impact in addressing the housing needs and community poverty in the project area. Eligible applicants are local rural nonprofit organizations, community development corporations, federally recognized Indian tribes, state housing finance agencies (HFAs), and state economic development and community development agencies (including consortia of such entities) with demonstrated capacity to undertake comprehensive projects that address the problems of concentrated rural housing distress and community poverty.

The funds made available under this program were awarded competitively, through a NOFA selection process conducted by HUD. Approximately $25 million was made available under the Consolidated Appropriations, 2010, in Rural Innovation grant funds, along with unobligated and unused funds remaining for the Rural Fund's predecessor program, the Rural Housing and Economic Development (RHED) program appropriated by the Department of Housing and Urban Development Appropriations Act, 2009, and prior appropriations Acts. For the Fiscal Year 2010 competition, a total of $31,355,236 was awarded to 51 projects nationwide.

In accordance with section 102(a)(4)(C) of the Department of Housing and Urban Development Reform Act of 1989 (103 Stat. 1987. 42 U.S.C. 3545), the Department is publishing the grantees and amounts of the awards in Appendix A to this Notice. A description of the projects, activities or undertakings of each award is provided in Appendix B to this Notice.

Dated: January 11, 2012.
Valerie Piper,
Deputy Assistant Secretary for Economic Development.

Appendix A

Number | State | Award recipient | Award
1 | AK | Village of Atmautluak | $798,888
2 | AK | Organized Village of Kake | 567,908
3 | AZ | Nogales Community Development Corporation | 1,999,177
4 | AZ | Elfrida Citizens Alliance, Inc | 300,000
5 | AZ | San Carlos Housing Authority | 300,000
6 | AZ | International Sonoran Desert Alliance | 300,000
7 | AZ | Portable Practical Educational Preparation, Inc. | 1,557,840
8 | AR | Southern Bancorp Capital Partners | 1,998,621
9 | CA | Karuk Tribe | 392,266
10 | CA | Habitat for Humanity Lake County | 300,000
11 | CA | All Mission Indian Housing Authority | 300,000
12 | CA | La Jolla Band of Luiseno Indians | 300,000
13 | CA | Santa Rosa Band of Mission Indians | 300,000
14 | CA | Cahuilla Band of Indians | 300,000
15 | CA | Bear River Band of Rohnerville Rancheria | 300,000
16 | CA | Walking Shield, Inc. of Lake Forest, California | 300,000
17 | DE | National Council on Agricultural Life & Labor Research Fund of Dover, DE | 300,000
18 | IL | Youthbuild McLean County | 300,000
19 | KY | Southeast Kentucky Economic Development Corporation | 300,000
20 | KY | Young Adult Development in Action, Inc. | 300,000
21 | KY | Purchase Area Housing Corporation | 300,000
22 | KY | Housing Development Alliance, Inc. | 300,000
23 | LA | Macon Ridge Community Development Corporation | 300,000
24 | LA | Pilgrim Rest Community Development Agency | 300,000
25 | MI | Keweenaw Bay Indian Community | 800,000
26 | MI | Keweenaw Bay Ojibwa Housing and Community Walking Development Corporation | 300,000
27 | MN | Midwest Minnesota Community Development Corporation | 300,000
28 | MS | Community Students Learning Center | 1,974,462
29 | MT | Northern Cheyenne Tribal Housing Authority | 300,000
30 | MT | Salish & Kootenai Housing Authority | 300,000
31 | MT | Chippewa Cree Tribe | 2,000,000
32 | NM | Northern Pueblos Housing Authority | 300,000
33 | NM | San Felipe Pueblo Housing Authority | 1,660,000
34 | NM | Taos Pueblo | 799,997
35 | NM | Jicarilla Apache Housing Authority | 300,000
36 | NY | PathStone Corporation of Rochester, NY | 2,000,000
37 | NC | Lumbee Regional Development Association | 300,000
38 | OK | Choctaw Nation of Oklahoma | 776,294
39 | OK | Housing Authority of the Seminole Nation of Oklahoma | 300,000
40 | OK | Little Dixie Community Action Agency, Inc. | 300,000
41 | OR | St. Joseph's Shelter | 300,000
42 | PR | Instituto para el Desarrollo Socioeconómico y de Vivienda de Puerto Rico, Inc | 300,000
43 | SD | Mazaska Owecaso Otipi Financial, Inc. | 300,000
44 | SD | Oglala Sioux (Lakota) Housing | 2,000,000
45 | SD | Four Bands Community Fund, Inc. | 300,000
46 | SD | Lakota Fund, Inc. | 300,000
47 | TX | Motivation Education & Training, Inc. | 300,000
48 | WA | Confederated Tribes of the Colville Reservation | 799,750
49 | WA | Kalispel Tribe of Indians | 240,970
50 | WI | Lac Courte Oreilles Band of Lake Superior Chippewa Indians | 789,063
51 | WI | Ho-Chunk Housing and Community Development Agency | 300,000
Total |  |  | 31,355,236

Appendix B

Alaska

The Atmautluak Traditional Council in Atmautluak, Alaska will receive a Rural Innovation Fund Indian Economic Development and Entrepreneurship grant in the amount of $798,888 to launch the Pikat Housing Development Company Project (Pikat Project), which will address the need for sustainable, permanent jobs by developing energy-efficient, culturally-informed, and healthy housing for low- and very-low income residents in the Village of Atmautluak. The Pikat Project will form the for-profit business Pikat Housing Development Company (PHD COMPANY) to construct two prototype homes that can then be duplicated in Atmautluak and the surrounding villages by PHD Company (PHDC). This will create more job opportunities as PHDC grows. In partnership with the Cold Climate Housing Research Center (CCHRC), the Pikat Project will use a hands-on approach to build the capacity of the tribal government staff and local construction workforce. The tribe has a trained construction workforce with experience in conventional construction techniques but lacks training in green, energy-efficient new construction. Leveraging for this project is $507,202 from CCHRC and Atmautluak Limited.

Contact Person: Mr. Daniel Waska.

Grantee Address: Village of Atmautluak, PO Box 6568, Atmautluak, AK 99559-6568.

Telephone Number: (907) 553-5610.

Email Address: atmautluaktc@hughes.net.

The Organized Village of Kake in Kake, Alaska will receive a Rural Innovation Fund Indian Economic Development and Entrepreneurship grant in the amount of $567,908 that will be used to provide small business development assistance to start-up oyster and geoduck farmers. Shellfish aquaculture shows strong promise to provide expanded private sector employment and revenue to rural Southeast Alaska, which has been devastated in recent years with outmigration of jobs and residents. The Southeast Alaska Mariculture Business Development Project will offer business development technical assistance and capacity building services to existing and start-up mariculture businesses in the Kake, Naukati, Hoonah and Angoon areas. All of these communities are located in economically distressed rural areas with less than 2,500 inhabitants. Services include a shellfish business incubator, mariculture small farmer apprenticeship program, and a mariculture equipment revolving loan fund for provision of essential equipment to create small shellfish farms. Key partners for the project include AK Shellfish Growers Assoc.; Univ. of Southeast AK Marine Advisory Program; Univ. of AK Center for Economic Development; AK Oyster Cooperative and Rural Community Assistance Corp. Leveraging for this project is $224,741.

Contact Person: Mr. Gary Williams.

Grantee Address: Organized Village of Kake, P.O. Box 316, Kake, AK 99830-0316.

Telephone Number: (907) 785-6471.

Email Address: GEWilliams@KakeFirstNations.org.

Arizona

Nogales Community Development (NCD) in Nogales, Arizona will receive a Rural Innovation Fund Comprehensive grant in the amount of $1,999,177 to revitalize the downtown core of the rural colonia while helping low-income residents build assets to move out of poverty. These goals will be achieved through three primary activities. First, NCD will develop a multi-use training and resource center to provide residents with self-sufficiency services and spur revitalization of historic downtown buildings. Second, NCD will provide services including rental housing rehab, foreclosure mitigation, housing counseling and financial literacy, business development, and education, including scholarships for higher education. Other self sufficiency supports include citizenship classes, developing community gardens, public health education, and access to transportation and child care. Third, NCD will create a comprehensive continuum of services referral system that bundles client housing, business, public health and education services with a program that trains and deploys lay community workers to link residents with services. This project will create at least 100 jobs and rehabilitate 10 housing units. NCD will partner with Mariposa Community Health Center, University of Arizona (Santa Cruz County), Santa Cruz County Provisional Community College Board, Southwest Fair Housing Council, Primeria Alta Historical Society, Nogales Public Housing Authority, and Citi Bank. Leveraging for this project is $1,000,743.

Contact Person: Ms. Yvonne Delgadillo.

Grantee Address: 124 North Terrace Avenue, Suite B, Nogales, AZ 85621-3248.

Telephone Number: (520) 287-3631.

Email Address: bbracker@mchsi.com.

Elfrida Citizens Alliance, Inc (ECA) in Elfrida, Arizona will receive a Rural Innovation Fund Single Purpose grant in the amount of $300,000 to address substandard housing conditions, economic distress and lack of access to affordable capital by promoting sustainable energy-efficient housing, businesses, and community facilities. ECA will provide technical assistance to small businesses and homeowners to develop, finance, and build energy-efficiency projects or renewable energy facilities and leverage funds from utility rebates and USDA's Renewable Energy America Program. ECA will construct 14 commercial projects, replace 3 substandard homes, and provide training in installation of solar photovoltaic panels. Permanent financing secured by businesses and homeowners will repay the RIF construction loans, which will capitalize a revolving loan fund to provide construction financing for small businesses to develop and build renewable energy facilities or to make energy-efficiency improvements, affordable financing for businesses, and construction loans to upgrade substandard homes. Partners include Sulphur Springs Valley Electric Cooperative and Southeastern Arizona Governments Organization's Pathways Out of Poverty Program. Leveraging for this project is $150,000.

Contact Person: Ms. Jeanne Shaw.

Grantee Address: P.O. Box 172, Elfrida, AZ 85610-0172.

Contact Number: (520) 642-6967.

Email Address: eca_elfrida@vtc.net.

The San Carlos Housing Authority in Peridot, Arizona will receive a Rural Innovation Fund Single Purpose grant in the amount of $300,000 to build and rehabilitate 40 single family homes and provide quality affordable rental housing. Each of the new and rehabilitated homes will have cost-saving, energy-efficient upgrades, including Energy Star advanced lighting, energy-efficient hot water distribution system, high efficiency HVAC system, and Energy Star high performance windows, design shading, and radiant barriers. Partners for this project are Travois, Inc, and Travois Asset Management, LLC. Leveraging for this project is $150,000.

Contact Person: Mr. Thomas Pender.

Grantee Address: Highway 70 and Moonbase Road, Peridot, AZ 85542-0000.

Telephone Number: (928) 300-8814.

Email Address: tomp@pender-engineering.com or tom@pender-engineer.com.

The International Sonoran Desert Alliance (ISDA) in Ajo, Arizona will receive a Rural Innovation Fund Single Purpose grant in the amount of $300,000 to complete the final phase of the Curley School renovation project. In 2005, ISDA purchased a seven acre, seven building campus and renovated the high school and junior high school buildings into 30 affordable artisan live/work spaces. This project will convert an elementary school into a conference and learning center with bed/bath units to augment the available guest rooms and generate income to sustain the learning center. ISDA will run a construction training program for adults and youth that will create 15-20 jobs. Leveraging for this project is $150,000.

Contact Person: Ms. Tracy Taft.

Grantee Address: 401 W Esperanza Ave, Ajo, AZ, 85321-2405.

Telephone Number: (520) 387-3229.

Email Address: tract@isdanet.org

The Portable Practical Education Preparation Inc (PPEP) in Tucson, AZ, will receive a Rural Innovation Fund Comprehensive grant in the amount of $1,557,840 to increase job training and work skills for low income residents in Southern Yuma County, AZ. The project is called Building Houses, Building Community and it will provide 66 low income youth, the majority farm workers, job skills and education to positively impact the economy of these rural communities in tandem with the creation of 9 homes and rehabilitation of 15 homes for low income people. Partners include PPEP's High School Equivalency Program (HEP), OneStop, Workforce Investment Act (WIA) program, WIA Section 167 Migrant and Seasonal Farmworker program, and two charter schools serving high risk youth in Somerton and San Luis, AZ. Leveraging for this project is $883,800.

Contact Person: Ms. Kari Hogan.

Grantee Address: 802 E. 46th Street, Tucson, AZ 85713-5006.

Telephone Number: (520) 770-2500.

Email Address: KHOGAN@ppep.org.

Arkansas

The Southern Bancorp Capital Partners (SBCP) in Arkadelphia, Arkansas, will receive a Rural Innovation Fund Comprehensive grant in the amount of $1,998,621 for an economic development and housing program that will support existing business and entrepreneurs and provide supportive services and incentives to homeowners. Activities include: a new downtown Helena-West Helena mixed-use retail and housing development; a loan loss reserve and business loan fund; employer incentives for job creation; a small business incubator; an innovative business plan award competition; individual development accounts; housing counseling and financial education; and housing assistance stipends for low-income families and those in critical professions. The program will create 14 new businesses, 98 new jobs, and help 155 homeowners purchase or repair their homes. Partners include Southern Bancorp, Southern Good Faith Fund; Phillips Community College-University of Arkansas, Small Business Incubator; the Phillips County Chamber of Commerce; Helena-West Helena Advertising and Promotions Commission; and Main Street Helena. Leveraging for this project is $1.1 million.

Contact Person: Ms. Tanya Wright.

Grantee Address: 605 Main Street, Suite 602, Arkadelphia, AR 71923-6037.

Telephone Number: (510) 372-4201, ext. 33 or 30.

Email Address: twright@banksouthern.com.

California

The Karuk Tribe, through its Karuk Community Development Corporation (KCDC), in Happy Camp, California will receive a Rural Innovation Fund Indian Economic Development and Entrepreneurship grant in the amount of $392,266 to provide job training, small business assistance, and financial education to residents. KCDC will provide vocational and job training programs for 90 residents; credit, homeownership, and financial counseling for 60 residents; and entrepreneurship training for 60 residents or 10 new businesses. A computer center will allow residents to obtain GEDs, certificates, or Associate degrees via distance learning. KCDC will partner with Happy Camp School District and the Karuk Community Loan Fund. Leveraging for this project is $114,191.

Contact Person: Ms. Laura Olivas.

Grantee Address: Karuk Tribe, 64236 Second Ave/PO Box 1016, Happy Camp, CA 96039-0000.

Telephone Number: (530) 493-5376.

Email Address: lolivas@karuk.us.

Habitat for Humanity Lake County in Lower Lake, California will receive a Rural Innovation Fund Single Purpose Grant in the amount of $300,000 to repair and renovate 30 homes as part of its Jobs-for-Homes Project. This project will hire local displaced workers and will train them in energy efficiency, sustainability, and home accessibility. The home repair and rehabilitation will both improve the health and safety of the occupants and ensure the home's long-term affordability. The Local Workforce Investment Board One Stop Career Center will assist in the training of the new hires. Leveraging for this project is $170,000.

Contact Person: Mr. Richard Birk.

Grantee Address: P.O. Box 1830, Lower Lake, CA 95457-9906.

Contact Number: (707) 994-1100.

Email Address: richardb@lakehabitat.org.

All Mission Indian Housing Authority (AMIHA) in Temecula, California will receive a Rural Innovation Fund Single Purpose grant in the amount of $300,000 to fund construction of four homes on the Torres Martinez Indian Reservation. This project is an important step in the plan to replace all of the 32 dilapidated modular homes inhabited by the majority of Tribal residents. The four new, stick-built, 3-4 bedroom, 2 bathroom homes will range from 1,200 to 1,300 square feet and will be of quality construction. Each home will meet Energy Star standards and meet or exceed mandatory items on the “Green Communities Criteria” set forth by Enterprise Community Partners, Inc. AMIHA will partner with Santa Ynex Band of Chumash Indians. Leveraging for this project is $373,732.

Contact Person: Ms. Debra M. Skallerud.

Grantee Address: 27740 Jefferson Ave, Suite 260, Temecula, CA 92590-2607.

Telephone Number: (951) 760-7390.

Email Address: dskallerud@amiha.org.

The La Jolla Band of Luiseno Indians (LJBLI) in Pauma Valley, California will receive a Rural Innovation Fund Single Purpose grant in the amount of $300,000 to construct two new healthy design homes on the La Jolla Indian Reservation. LJBLI will partner with All Mission Indian Housing Authority (AMIHA) which is a tribally designated housing entity. Leveraging for this project is $204,880.

Contact Person: Ms. Debra M. Skallerud.

Grantee Address: 22000 Hwy 76, Pauma Valley, CA 92061-9721.

Telephone Number: (951) 760-7390.

Email Address: dskallerud@amiha.org.

Santa Rosa Band of Mission Indians in Hemet, California will receive a Rural Innovation Fund Single Purpose grant in the amount of $300,000 to fund construction of two new homes on the Santa Rosa Reservation. The two new, stick-built, 3-4 bedroom, two bathrooms homes will range from 1,600-2,000 square feet and will incorporate visibility features and healthy design. All homes will meet Energy Star standards and will be constructed to meet or exceed mandatory items on the “Green Communities Criteria.” Partners for this project include AMERID Risk Management Corporation, The LaJolla Band of Luiseno Indians and Pit River Construction, Inc. Leveraging for this project is $204,880.

Contact Person: Ms. Debra M. Skallerud.

Grantee Address: P.O. Box 609, Hemet, CA 92546-0609.

Telephone Number: (951) 760-7390.

Email Address: dskallerud@amiha.org.

The Cahuilla Band of Indians in Anza, California, will receive a Rural Innovation Fund Single Purpose grant in the amount of $300,000 to build two new affordable homes in partnership with All Mission Indian Housing Authority (AMIHA). The two stick-built, 3-4 bedroom, 2 bathroom homes will be of quality construction and incorporate climate resilient features. The homes will incorporate visitability features and healthy design. Each home will meet the seven principles of universal design identified by the Universal Design Alliance. All homes will meet Energy Star standards and will meet or exceed mandatory items on the “Green Communities Criteria” set forth by Enterprise Community Partners, Inc. Leveraging for this project is $233,880.00.

Contact Person: Ms. Debra M. Skallerud.

Grantee Address: P. O. Box 391760, 52701 Hwy 371, Anza, CA 92539-1760.

Telephone Number: (951) 760-7390.

Email Address: dskallerud@amiha.org.

The Bear River Band of Rohnerville Rancheria in Loeita, California will receive a Rural Innovation Fund Singe Purpose Grant in the amount of $300,000 to develop infrastructure improvements on a 113-acre Tribal property in Singley Hill, Humboldt County, California. The infrastructure improvements include construction of roadways, walkways, dry utilities, storm water, wastewater, and water supply systems to support the multi-family housing element of the master-planned Tish Non development, a mixed-use residential, community, and commercial project. The anticipated full development at the Tish Non Village includes 66 single-family home sites, 12 multi-family units and a community center, recreation center, and assisted living center. Leveraging for this project is $150,235.

Contact Person: Mr. Bruce Merson.

Grantee Address: 27 Bear River Drive, Loleta, CA 95551-9646.

Telephone Number: (707) 407-6617.

Email Address: bruce.merson@bearrivercasino.com.

Walking Shield, Inc. in Lake Forest, California will receive a Rural Innovation Fund Single Purpose grant in the amount of $300,000 for an affordable housing and economic development project on the Rocky Boy Indian reservation in Montana. The innovative housing and community development project will locate and redirect surplus military houses on the Malmstrom Air Force Base to this underserved, rural American Indian community that has a shortage of affordable housing. This project also includes infrastructure improvements and healthcare activities. The project will result in the relocation of 75 homes, the creation of 15 new jobs, the construction of 3 miles of roads and healthcare support for approximately 1,500 individuals. Walking Shield will partner with the Chippewa Cree Housing Authority and Malmstrom Air Force Base. Leveraging for this project is approximately $6,750,000.

Contact Person: Dr. John Castillo.

Grantee Address: 22622 Lambert Street, Ste. 303, Lake Forest, CA 92630-1609.

Telephone Number: (949) 639-0472.

Email Address: jcastillo@walkingshield.org.

Illinois

Youthbuild McLean County (YBMC, Inc.) in Normal, Illinois will receive a Rural Innovation Fund Single Purpose grant in the amount of $300,000 to address the need for safe, sustainable, affordable housing in the community of Carlock, Illinois. The plan includes developing a 57-acre, mixed-income subdivision through the “Self-Help” (sweat equity) method. Eight affordable, single-family homes will be constructed with Energy Star and LEED certification and three dilapidated homes will be deconstructed and rebuilt as safe, green affordable housing. Partners include USDA Rural Development. Leveraging for this project is $284,000.

Contact Person: Ms. Suzanne Fitzgerald.

Grantee Address: 360 Wylie Drive, Suite #360, Normal, IL 61761-5500.

Telephone Number: (309) 261-6348.

Email Address: sfitzgerad@youthbuildmcleancounty.org.

Kentucky

The Southeast Kentucky Economic Development Corporation (SKED) in Somerset, Kentucky will receive a Rural Innovation Fund Single Purpose Grant in the amount of $300,000 to spur job creation in Annville, Jackson County, Kentucky. SKED will make a third-party loan to Highlands Diversified Services (HDS) for equipment and working capital to expand into a new manufacturing facility. This will create specialized manufacturing jobs that will be filled by low-and-moderate income persons who have the required technical skills but are unemployed as a result of the closure of several companies due to offshore outsourcing. Jackson County is designated as a Distressed County by the Appalachian Regional Commission and is located in the Kentucky Highlands Empowerment Zone. The Empowerment Zone will provide leveraging in the amount of $600,000 which will be used for equipment, inventory, and working capital.

Contact Person: Mr. Greg Jones.

Grantee Address: 2292 South Highway 27, Suite 340, Somerset, KY 42501-2905.

Telephone Number: (606) 677-6100.

Email Address: gjones@centertech.com.

Young Adult Development in Action, Inc. (YADA), d.b.a. YouthBuild Hazard in Louisville, Kentucky will receive a Rural Innovation Fund Single Purpose grant in the amount $300,000 to support a 12-month, intensive job training and placement program for a minimum of 10 low-income, at-risk young people aged 18 to 24, youth who otherwise face slim job prospects and a likelihood of requiring on-going public assistance. Participants will improve educational credentials, learn and apply marketable green-building skills through affordable housing rehabilitation and construction, and obtain life-long leadership skills. The new affordable housing built will be energy efficient. The program will serve eligible low-and very-low income young people who live in Breathitt County. Partners include more than a dozen local, state and national partners. Funding will enable YouthBuild Hazard to build on the outcomes of previous RHED grants. Leveraging for this project is $787,956.

Contact Person: Ms. Della Howard.

Grantee Address: P.O. Box 638 Louisville, KY 40201-0638.

Telephone Number: (606) 693-9393.

Email Address: director@youthbuildhazard.org.

Purchase Area Housing Corporation in Mayfield, Kentucky will receive a Rural Innovation Fund Single Purpose grant in the amount of $300,000 to repair and construct affordable homes in Fulton County, Hickman County and the cities of Mayfield and Murray. The project will rehabilitate nine substandard, dilapidated homes that house low-income families and will train Area Technology Center students as part of this effort. The project will provide jobs for contractors, suppliers, and other workers in the Purchase Area. Partners include Area Technology Centers and the Kentucky Housing Corporation. Leveraging for this project is $945,350.

Contact Person: Mr. David Hargrove.

Grantee Address: 1002 Medical Dr., Mayfield, KY 42066-0588.

Telephone Number: (270) 251-6158.

Email Address: david.hargrove@purchaseadd.org.

Housing Development Alliance, Inc. (HDA) in Hazard, Kentucky will receive a Rural Innovation Fund Single Purpose grant in the amount of $300,000 to build upon HDA's innovative homeownership program. The program will construct 25 homes that are at least 40 percent more energy efficient than a standard code home as documented by the HERS rating. The homes will have a 19 SEER heat pump; conditioned crawl spaces; Energy Star rated vent fans; a heat pump and water heater and will be air-sealed. Partners include the Federal Home Loan Bank, Kentucky Housing Corporation, Federation of Appalachian Housing Enterprises, and local banks. Leveraging for this project is $3,361,283.

Contact Person: Mr. Russell Scott.

Grantee Address: P.O. Box 7284, Hazard, KY 41702-7284.

Telephone Number: (606) 436-0497.

Email Address: scott@housingdevelopmentalliance.org.

Louisiana

Macon Ridge Community Development Corporation in Ferriday, Louisiana will receive a Rural Innovation Fund Single Purpose grant in the amount of $300,000 to encourage retail growth and create construction jobs as part of the Louisiana Delta Rural Innovation Program. The program will construct ten new, single-family houses in the first 24 months and will stimulate entrepreneurship by utilizing disadvantaged start-up subcontractors. The program will also support a revolving loan fund and homebuyer education program to increase homeownership to low- and moderate-income families in the Lower Mississippi Delta Region. Fifty jobs will be created and retained through this program. Partners include the Louisiana Housing and Community Development Corporation and LISC. Leveraging for this project is $1,415,100.

Contact Person: Mr. Lloyd S. Spillers Jr.

Grantee Address: 1600 Third Street. Ferriday, LA 71334-2281.

Telephone Number: (318) 757-2361.

Email Address: bspillers@mrcdc.com.

The Pilgrim Rest Community Development Agency in Belle Chasse, Louisiana will receive a Rural Innovation Fund Single Purpose Grant in the amount of $300,000 to build a rental housing development for low-to-moderate income residents in Port Sulphur, Plaquemines Parish, Louisiana. The development will be a triplex rental housing building that is environmentally friendly, energy efficient, promotes the use of green products, and adheres to the Enterprise Green Communities “Healthy Living Environment.” The project will create 10 construction jobs. Leveraging for this project is $176,000.

Contact Person: Mr. Ronald Singleton.

Grantee Address: 1112 Engineers Road, Belle Chasse, LA 70037-3131.

Telephone Number: (504) 394-1123.

Email Address: pilgrimrestcommu@bellsouth.net.

Michigan

The Keweenaw Bay Ojibwa Housing and Community Development Corporation (KBOHCDC) in Baraga, Michigan will receive a Rural Innovation Fund Single Purpose grant in the amount of $300,000 to provide business support to Tribal member-owned small businesses through the capitalization of a low-interest revolving loan fund together with business and financial education. The project will service 18 businesses with an average loan of $17,198 and the maximum loan amount of $20,000. KBOHCDC will partner with the Keweenaw Bay Ojibwa Housing Authority. Leveraging for this project is $150,068.13.

Contact Person: Mr. Edward Edwards.

Grantee Address: 220 Main Avenue, Suite 26, Baraga, MI 49908-9618.

Telephone Number: (906) 353-7117.

Email Address: eddy@kboha.com.

The Keweenaw Bay Indian Community in Baraga, MI, will receive a Rural Innovation Fund Indian Economic Development and Entrepreneurship grant in the amount of $800,000 to increase job opportunities and business development for the Tribal community. The economic development project will create jobs through business development and expansion to demonstrate a measurable improvement in the quality of life. Business planning and development efforts will focus on the creation of for profit entities that principally create or retain jobs for tribal members, especially unemployed or underemployed persons. Partners include Tribal Employment Rights Office for training of potential management and employees, Lance Morgan, CEO of HoChunk, Inc., Ojibwa Community College, Keweenaw Economic Development Alliance, and Michigan Tech University. Leveraging for this project is $800,000.

Contact Person: Mr. Gregg Nominelli.

Grantee Address: 16429 Beartown Road Baraga, MI 49908-9210.

Telephone Number: (906) 353-4133.

Email Address: Gregg@kbic-nsn.gov.

Minnesota

Midwest Minnesota Community Development Corporation (MMCDC) in Detroit Lakes, Minnesota will receive a Rural Innovation Fund Single Purpose grant in the amount of $300,000 to provide business financing to a subsidiary limited liability company to redevelop an abandoned commercial facility for the production of biomass heating pellets, capitalizing on the area's supply of wood and logging residue. Transportation and workforce support programs will link low-skilled tribal workers on the White Earth Indian Reservation to jobs in the biomass energy industry. MMCDC will work with the business and White Earth Tribal Employment and Training program to facilitate employment referrals and on-the-job training and support for new production and office jobs at the plant. MMCDC will work with White Earth Investment Initiative on implementing an IDA program for car ownership. Finally, MMCDC will research the market for biomass pellets and document this research in a market study to support long-term business stability and job growth and diversification. Leveraging for this project is $303,000.

Contact Person: Ms. Janie Erickson.

Grantee Address: 119 Graystone Plaza Suite 100, Detroit Lakes, MN 56501-3034.

Telephone Number: 218-847-319.

Email Address: jerickson@mmcdc.com.

Mississippi

The Community Students Learning Center (CSLC) in Lexington, Mississippi will receive a Rural Innovation Fund Comprehensive grant in the amount of $1,974,462 for the Empowering the Delta with a Growing Economy (EDGE) project. EDGE will partner with community, business and government agencies to implement a multifaceted approach that generates jobs and provides job training, housing counseling, housing and entrepreneurism. By the end of the third year, 100 consumers will participate in job training and mentoring, 10 consumers in business incubation and 100 consumers in life skills. In the area of housing, 100 consumers will receive housing counseling, 500 will receive fair housing information and 40 will receive information with regard to housing. CSLC will partner with Jackson State University, MS Delta Win Center, Bank Plus, Clark & Clark, PLLC, Mississippi Valley State University, KSBC Transportation, Holmes County USDA Service Center and Holmes County Board of Supervisors. Leveraging for this project is $1,248,340.

Contact Person: Ms. Kathy Jenkins.

Grantee Address: 333 Yazoo Street, Lexington, MS 39095-3608.

Telephone Number: (417) 682-6002.

Email Address: dj@ipa.net.

Montana

Northern Cheyenne Tribal Housing Authority (NCTHA) in Lame Deer, MT will receive a Rural Innovation Fund Single Purpose grant in the amount $300,000 to rehabilitate 21 houses, bringing them up to NCTHA standards for safety, energy efficiency, and accessibility. These efforts will result in a 10 percent reduction in substandard housing for the community. The project will create two jobs and provide on-the-job training. In addition to improving the safety and comfort of low-income tribal members, the rehabilitated homes will increase in value, allowing homeowners more flexibility to leverage equity. Leveraging for this project is $465,904.

Contact Person: Mr. Lafe Haugen.

Grantee Address: P.O. Box 327, Lame Deer, MT 59043-0327.

Telephone Number: (406) 477-6419.

Email Address: lafehaugen@gmail.com.

The Salish & Kootenai Housing Authority (SKHA) in Pablo, Montana will receive a Rural Innovation Fund Single Purpose grant in the amount of $300,000 for a homeownership assistance project on the Flathead Indian Reservation, home of the Confederated Salish & Kootenai Tribes. SKHA will purchase foreclosed properties that can then be re-sold at prices the program participants can afford. The project will also provide homebuyer education, credit counseling, financial assistance and affordable housing options. Leveraging for this project is $205,471.

Contact Person: Mr. Jason Adams.

Grantee Address: P.O. Box 38, Pablo, MT 59855-0038.

Telephone Number: (406) 675-4491.

Email Address: jadams@skha.org.

Chippewa Cree Tribe in Box Elder, Montana will receive a Rural Innovation Fund Comprehensive grant in the amount of $2,000,000 to construct a water storage and delivery system which will provide potable water and fire suppression to the community (justice center, health clinic and approximately 200 homes). This project will result in the creation of 21 jobs. Leveraging for this project is $1,349,944.

Contact Person: Mr. Raymond J. Parker.

Grantee Address: 96 Clinic Road, Box Elder, MT 59521-0000.

Telephone Number: (406) 395-5705.

Email Address: jake@cct.rockyboy.org.

New Mexico

Northern Pueblos Housing Authority (NPHA) in Santa Fe, New Mexico will receive a Rural Innovation Fund Single Purpose grant in the amount $300,000 to reduce the dilapidated housing conditions and overcrowding on Picuris Pueblo by rehabilitating four homes. The rehabilitation of the historic adobe homes will include accessibility improvements, universal design features, and will meet New Mexico Mortgage Finance Authority's Green Building standards. NPHA will also address the high rate of poverty and lack of high-paying employment through job training programs that will be implemented with the assistance of regional entities. In addition to construction job opportunities made available during the home rehabilitation, NPHA will mentor two Tribal members in project and construction management. NPHA will work with the New Mexico Behavioral Health Collaborative to improve access to behavioral and health services for tribal members. Leveraging for this project is $160,644.

Contact Person: Mr. Terry G. Hudson.

Grantee Address: 5 West Guiterrez St. Suite 10, Santa Fe, NM 87506-0956.

Telephone Number: (505) 455-7973.

Email Address: h_terryg@hotmail.com.

The San Felipe Pueblo Housing Authority (SFPHA) in San Felipe Pueblo, New Mexico will receive a Rural Innovation Fund Comprehensive grant in the amount of $1,660,000 to build 12 affordable units of housing while creating 30 jobs. The project will increase the quality of life for over 115 Tribal members living in substandard conditions. Partners include the Pueblo of San Felipe tribal council, the Tribal Administration, Pueblo of San Felipe Public Improvement Authority and the SFPHA Board of Commissioners and Tribal Departments. Leveraging for this project is $9 million.

Contact Person: Mr. Isaac Perez.

Grantee Address: P. O. Box 4222, San Felipe Pueblo, NM 87001-4222.

Telephone Number: (505) 771-9291.

Email Address: iperez@sfpha.org.

Taos Pueblo in Taos, New Mexico will receive a Rural Innovation Fund Indian Economic Development and Entrepreneurship grant in the amount $799,997. The Taos Pueblo Preservation Project (TPPP) will start a nine-year mission to rehabilitate 320 housing units. Within the spectrum of the Rural Innovation Funding, the Taos Pueblo will rehabilitate 52 traditional multi-use spaces in the Old Village that will be used as housing, retail space, and traditional cultural activities. These efforts will also provide education and training for tribe members and facilitate branding and marketing of Pueblo products. Partners for the project include several public and private entities, Taos Pueblo War Chief's Office, Taos Pueblo Cultural Preservation Office, Red Willows Community Grown Cooperative, and the New Mexico Small Business Development Center. Leveraging for this project is $625,104.

Contact Person: Mr. Louis Zamora.

Grantee Address: Taos Pueblo, Post Office 1846, Taos, NM 87571-1846.

Telephone Number: (575) 776-7446.

Email Address: preservation@taospueblo.com.

The Jicarilla Apache Housing Authority in Rio Arriba, New Mexico, will receive a Rural Innovation Fund Single Purpose grant in the amount of $300,000 to improve the housing conditions and utility burden for Jicarilla Apache Tribal members in Dulce, New Mexico. The project will provide housing rehabilitation services and Energy$mart resources to 38 low-income Tribal members and their families. By providing these services, JAHA will build a long-term capacity, through training and education, to assess and address the need for energy-efficiency measures that will augment its increased efforts to preserve the Jicarilla Apache Nation's housing stock and keep housing affordable for the low-income residents of the community of Dulce. Partners include the Native American Housing Consultants, LLC (NAHC), Energy$mart Program of the New Mexico Mortgage Finance Authority (NMMFA), and the Los Amigos Educational Resource Center (LAERC). Leveraging for this project is $404,900.

Contact Person: Mrs. Lisa M. Manwell.

Grantee Address: P.O. box 486 Dulce, NM 87528-0000.

Telephone Number: (575) 759-3459.

Email Address: lgmanwell@hotmail.com.

North Carolina

The Lumbee Regional Development Association (LRDA) in Pembroke, North Carolina, will receive a Rural Innovation Fund Single Purpose grant in the amount of $300,000 to improve the living and economic conditions for the Lumbee Indian Tribe in Robeson, Scotland, and Hoke counties in Southeastern North Carolina. The project will increase energy efficiency and decrease utility costs for residents while creating 9 jobs, completing 150 energy audits and rehabilitating 51 homes. It will also provide housing counseling to 80 families. Partners include the Lumbee River Electric Membership Corporation, Lumbee Enterprise Development, the Robeson County Community Development Corporation, the Lumbee Tribe of North Carolina, and the LRDA Workforce Investment Act program. Leveraging for this project is $497,000.

Contact Person: Mr. James Hardin.

Grantee Address: 636 Prospect Road, Pembroke, NC 28372-0068.

Telephone Number: (910) 521-8602.

Email Address: jhardin@lumbee.org.

Oklahoma

The Little Dixie Community Action Agency, Inc. (LDCAA), in Hugo, Oklahoma will receive a Rural Innovation Fund Single Purpose grant in the amount $300,000 to improve housing and existing economic conditions. LDCAA will complete a needs assessment in the areas of housing and employment to generate action plans relative to the needs identified. Activities will include credit and housing counseling, small business training, job-skills training, job fairs, links to available resources, computer skills training, and education. Staff will coordinate with area employers, representatives of the educational community, and other resource providers to schedule and provide trainings, seminars, and workshops. This project will serve 130 participants. Leveraging for this project is $163,200.

Contact Person: Mrs. Rhonda Teague.

Grantee Address: 209 North 4th St, Hugo, OK 74743-3809.

Telephone Number: (580) 326-3351.

Email Address: rteague@littledixie.org.

The Choctaw Nation of Oklahoma in Durant, Oklahoma will receive a Rural Innovation Fund Indian Economic Development and Entrepreneurship grant in the amount of $776,294 to initiate the Choctaw Native American Business Resource (NABR) Project, which will provide culturally relevant economic development services that support Native American business development, job creation, and ongoing entrepreneur activities. The applicant will partner with Eastern Oklahoma State College (EOSC) and Rural Enterprises Inc. (REI). EOSC will assist with the outreach and infrastructure necessary to implement the project and will also provide educational activities. REI will ensure collaboration with the Native American Small Business Center, provide access for Choctaw NABR participants to a $500,000 revolving loan fund it operates, and provide small business resources and educational activities. Leveraging for this project is $670,976.

Contact Person: Ms. Dana Bonham.

Grantee Address: P.O. Box 1210 Durant, OK 74702-1210.

Telephone Number: (580) 924-8280.

Email Address: grants@choctawnation.com.

The Housing Authority of the Seminole Nation of Oklahoma (HASNOK) in Wewoka, Oklahoma will receive a Rural Innovation Fund Single Purpose Grant in the amount of $300,000 to provide energy-efficient upgrades in an affordable rental housing development under construction in the tribal community in Seminole County, Oklahoma. HASNOK is building 25 single-family homes that will be models for sustainable, healthy, and energy efficient design. All of the newly-constructed homes will have cost-saving energy efficient upgrades including Energy Star lighting, appliances, windows and doors, water heaters, and heating and cooling systems. Leveraging for this grant is $150,000; project also includes $4,448,958 of other financing.

Contact Person: Mr. Tom McGeisey.

Grantee Address: Wewoka, OK 74884-2424.

Telephone Number: (405) 257-6604.

Email Address: executivedirector@hasnok.org or tmcgeisey@netscape.net.

Oregon

The St. Joseph's Shelter in Mt. Angel, OR will receive a Rural Innovation Fund Single Purpose grant in the amount of $300,000 to increase job opportunities and business development for the Tribal community. The grant funds will go toward the renovation of a two story building that will house migrant farmworker families in rural Oregon. The partner for this project is CASA of Oregon. Leveraging for this project is $601,445.

Contact Person: Mrs. Lisa Rogers.

Grantee Address: 925 S. Main Street, Mt. Angel, OR.

Telephone Number: (503) 537-0319 x306.

Email Address: lrogers@casaoforegon.com.

Puerto Rico

Instituto para el Desarrollo Socioeconómico y de Vivienda de Puerto Rico, Inc. (INDESOVI) in Mayaguez, Puerto Rico will receive a Rural Innovation Fund Single Purpose Grant in the amount of $300,000 to build a mixed-use development in the Municipality of Coamo. The project includes construction of eight affordable rental units with ground floor commercial space. The rental units will be occupied by low-income families. The project will be energy efficient and incorporate Green and Healthy Design and will also provide an estimated 4 permanent jobs and 10 construction jobs. The Municipality of Coamo is partnering with INDESOVI and will donate the land for the project as well as contributing to the initial planning. Leverage for this project is $94,763.

Contact Person: Mr. Juan Enrique Sabathie.

Grantee Address: 173 Post Street, P.O. Box 7154, Mayaguez, PR 00681-7154549.

Telephone Number: (787) 832-7654.

Email Address: indesovi@gmil.com or sabathie@prtc.net.

PathStone Corporation in Rochester, New York will receive a Rural Innovation Fund Comprehensive grant in the amount of $2,000,000 for a project in the Castañer Region of the Cordillera Central on the western portion of Puerto Rico. The project will provide training and employment services for workers, training and resources for growers, and financial and technical assistance for microenterprise and small business development. PathStone will work with local organizations around the agro-tourism industry and promote the creation of affordable housing. Partners include Pontifical Catholic University Puerto Rico, Enterprise Community Partners, U.S. Dept. of Labor, Neighbor Works America, National Council of LaRaza and Popular Mortgage. Leveraging for this project is $1,589,759.

Contact Person: Mr. Lee Beaulac.

Grantee Address: 400 East Avenue, Rochester, NY 14607-1910.

Telephone Number: (585) 340-3366.

Email Address: lbeaulac@pathstone.org.

South Dakota

The Mazaska Owecaso Otipi Financial, Inc. in Pine Ridge, South Dakota will receive a Rural Innovation Fund Grant Single Purpose grant in the amount of $300,000 to prepare residents for first-time homeownership and to replenish loan funds to meet increased demand. A full-time homeownership counselor will provide group training and one-on-one counseling to potential homebuyers and applicants. The goals for this project are to have 64 families that complete homebuyer training and/or individual homeownership counseling; 10 families that receive a fixed-rate mortgage to purchase their first home; and 5 families that make energy efficient upgrades to their new home at the time of purchase. Leveraging for this project is $150,000.

Contact Person: Ms. Colleen Steele.

Grantee Address: P.O. Box 1996, Pine Ridge, SD 57770-000.

Telephone Number: (605) 867-1018.

Email Address: cstelle.moof@yahoo.com.

The Oglala Sioux (Lakota) Housing in Pine Ridge, South Dakota will receive a Rural Innovation Fund Comprehensive grant in the amount of $2,000,000 to design and build 16 affordable rental and owner-occupied houses on the Pine Ridge Indian Reservation in southwestern South Dakota. The project aims to assist tenants with lower costs by building energy-efficient, low-maintenance, secure homes that use the latest technology. The organization will train workers and contractors as Energy Auditors and Weatherization Installers as well as giving them an introduction to green building methods. Partners include Thunder Valley CDC Sustainable Communities Project, Indian Health Service, OST Rural Water System, Oglala Lakota College, Bureau of Indian Affairs, OST Partnership for Housing, Pine Ridge Area Chamber of Commerce, The Lakota Fund, and Native Workplace/CleanEdision. Leveraging for this project is $1,000,000.

Contact Person: Mr. Doyle Pipe on Head.

Grantee Address: 400 East Main, Pine Ridge, SD 57770-0603.

Telephone Number: (605) 867-5161.

Email Address: doyle.poh@oslh.org.

The Four Bands Community Fund, Inc. in Eagle Butte, South Dakota will receive a Rural Innovation Fund Single Purpose grant in the amount of $300,000 to implement a Native American Green Business Development program for underserved Native entrepreneurs. Project activities include a microloan fund to help 20 businesses become “green,” diversify into green products or services, and start new green businesses; business sustainability estimates and action plans for loan recipients; energy audits; educational workshops on green business and energy efficiency; business assistance grants for post-loan business management assistance and to subsidize technology costs; and a feasibility study for a green business incubator. The project will be located on the Cheyenne River Reservation in rural north-central South Dakota. Leveraging for this project is $205,000.

Contact Person: Ms. Tanya Marie Fiddler.

Grantee Address: Box 932, 101 South Main Street, Eagle Butte, SD 57625-0932.

Telephone Number: (605) 964-3687.

Email Address: tfiddler@fourbands.org.

The Lakota Fund, Inc. in Kyle, South Dakota will receive a Rural Innovation Fund Single Purpose grant in the amount of $300,000 to address housing and poverty issues for the Oglala Sioux Tribe on the Pine Ridge Reservation in South Dakota. The project will accelerate job creation, increase employment and income, and promote healthy living conditions to facilitate a positive cycle toward self-sufficiency for families. Activities include small business workshops and loans, workforce development training, financial education and tax preparation assistance, and other support services. Partners include the Lakota County Times, KILI, Oglala Lakota College, Consumer Credit Counseling, OST Partnership for Housing, Lakota Express, Mazaska Owecaso Otipi Financial Inc, Security First Bank, Wells Fargo Bank, and Attorney David Frankel. Leveraging for this project is $143,720.

Contact Person: Ms. Tawney Brunsch.

Grantee Address: Lakota Trade Center, Suite 201, Kyle, SD 57752-0340.

Telephone Number: (605) 455-2500.

Email Address: tbrunsch@lakotafunds.org.

Texas

Motivation Education & Training in New Caney, Texas will receive a Rural Innovation Fund Single Purpose grant in the amount $300,000 to support the Rositas Colonias Farmworker Housing Rehabilitation and Training Project. The project will renovate or replace 10 homes in Maverick County that are owned and occupied by low-income farmworkers and located in disinvested colonias. The project will use green construction techniques and individuals may be able to replace units with energy-efficient manufactured homes. Thirty farmworkers will be trained in construction skills. Partners include Southwest Texas Junior College and the National Farmworker Jobs Program. Leveraging for this project is $153,000.

Contact Person: Mr. Francisco L. Esparza.

Grantee Address: 22551 Gene Campbell Blvd., New Caney, TX 77357-1838.

Telephone Number: (281) 689-5544.

Email Address: esparza@metinc.org.

Virginia

The National Council on Agriculture Life & Labor Research Fund (NCALL) in Dover, Delaware will receive a Rural Innovation Fund Single Purpose grant in the amount of $300,000 to facilitate development of apartment units and homes for first-time homebuyers in Accomack and Northampton Counties on Virginia's Eastern Shore. The project will support the continuation of the area's first homeownership education program, which provides pre-purchase, financial literacy, and foreclosure prevention services. This unique approach to both the supply and demand side of affordable housing in this designated “difficult to develop” area will yield practical solutions, project momentum, and provide a successful transition through pre-development, financing, construction, and sales or rent-up. NCALL will partner with the Accomack-Northampton Planning District Commission (A-NPDC) and their Housing Alliance and Housing Authority. Leveraging for this project is $550,000.

Contact Person: Mr. Joe Myer.

Grantee Address: 363 Saulsbury Rd., Dover, DE 19904-2722.

Telephone Number: (302) 678-9400 ext 112.

Email Address: jmyer@ncall.org.

Washington

The Confederated Tribes of the Colville Reservation in Nespleem, Washington will receive a Rural Innovation Fund Indian Economic Development and Entrepreneurship grant in the amount of $799,750 to support the creation of a new woody biomass business entity that will harvest woody biomass and deliver it to local cogeneration facilities where it will be converted into electricity. The new business will add 16 new jobs and expand business opportunities for several contractors. Funds will be used to purchase the heavy equipment needed for turning woody biomass—waste from logging, orchards and mills—into fuel for power generation. The new business will be developed under the guidance of the CCT Energy Department as a for-profit business called Fuel Enterprises. Leveraging for this project is $2,300,000.

Contact Person: Mr. Ernie Clark.

Grantee Address: P. O. Box 150, Nespelem, WA 99155-0150.

Telephone Number: (509) 422-7755.

Email Address: Emie.clark@colvillletribes.com.

The Kalispel Tribe of Indians in Usk, Washington will receive a Rural Innovation Fund Indian Economic Development and Entrepreneurship grant in the amount of $240,970 to construct a nursery to cultivate native plants, including over 3,000 trees from locally sourced plant stock. The project will also restore lost habitat on the reservation, fund wetland restoration efforts, and link these efforts with the initiation/development of a forestry apprenticeship. Partners include KNRD, EPA, BPA, and KCTC, as well as in-kind funds for land acreage. Leveraging for this project is $128,456.

Contact Person: Mr. Ray Entz.

Grantee Address: PO Box 39 Usk, WA 99180-0039.

Telephone Number: (509) 447-7278.

Email Address: rentz@kalispeltribe.com.

Wisconsin

The Lac Courte Oreilles Band of Lake Superior Chippewa Indians in Hayward, Wisconsin will receive a Rural Innovation Fund Indian Economic Development and Entrepreneurship grant in the amount of $789,063 to enhance the tourism-based economy by creating a visitor's center, museum, and gift shop located in former Kinnamon School, which will be renovated. The visitor's center will promote tribal businesses and will provide a venue for the work of local crafts and tradespersons. Partners include Sawyer County Historian Andrea Wittwer, Tribal Spiritual Leader and Historic Preservation Officer Jerry Smith, Lac Courte Oreilles (LCO) Arts & Crafts Assoc. Director Cathy Begay, Tribal Governing Board and Tribal Attorney, Paul Shagan, LC Dev Corp, NW Regional Planning Commission, and A&E Consulting Firm. Leveraging for this project is $394,908.

Contact Person: Ms. Lorene Wielgot.

Grantee Address: 13394 West Trepania Rd, Hayward, WI 54843-2186.

Telephone Number: (715) 634-8934.

Email Address: weilot@gmail.com.

The Ho-Chunk Housing and Community Development Agency in Tomah, Wisconsin will receive a Rural Innovation Fund Single Purpose grant in the amount of $300,000 to rehab 21 homes in the 40-year old Indian Mission community, located in Black River Falls, Wisconsin. As part of the Indian Mission Green Rehabilitation project, 21 homes will receive a geothermal heat-pump system and new basement insulation. The green retrofitting will increase energy efficiency and reduce energy costs by 63 percent. Leveraging for this project is $150,000.

Contact Person: Mr. Paul Tysse.

Grantee Address: 1116 E. Monowau Street, P.O. Box 730, Tomah, WI 54660-2332.

Telephone Number: (608) 374-1245.

Email Address: paul.tysse@ho-chunk.com.

[FR Doc. 2012-1008 Filed 1-18-12; 8:45 am]

BILLING CODE 4210-67-P